DEPARTMENT OF AGRICULTURE

Forest Service

Off-Highway Vehicle Travel Management Plan

AGENCY: Forest Service, USDA.

ACTION: Revised Notice of Intent to prepare an environmental impact statement.

SUMMARY: On August 27, 2007, The Mt. Hood National Forest (Forest) published a Notice of Intent in the Federal Register (72 FR 48982) to prepare an environmental impact statement (EIS) to document and disclose the potential environmental effects of establishing and designating a system of roads, trails and areas for off-highway vehicles (OHV). The proposed action will change OHV access through much of the Forest in order to meet the intent of the Travel Management; Designated Routes and Areas for Motor Vehicle Use; Final Rule that was published on November 9, 2005 (70 FR 216). The original Notice of Intent listed the final date to receive comments concerning the scope of the analysis as October 1, 2007. The Notice of Intent is being revised to extend the final date for receiving comments concerning the scope of the analysis to November 1, 2007.

DATES: Comments concerning the scope of this analysis must be received no later than November 1, 2007 to ensure they are fully incorporated into the Draft EIS.

ADDRESSES: Submit written comments to Jennie O'Connor, Off-Highway Vehicle Travel Management Plan Leader, Mt. Hood National Forest, 6780 Highway 35, Parkdale, Oregon 97041. Electronic comments can be submitted to comments-pacificnorthwest-mthood@fs.fed.us.

FOR FURTHER INFORMATION CONTACT: Jennie O'Connor, Natural Resource Planner, Mt. Hood National Forest, 6780 Highway 35, Parkdale, Oregon 97041 (541) 352-6002 x634, or by e-mailing jmoconnor@fs.fed.us.

Dated: September 12, 2007.
Gary L. Larsen,
Forest Supervisor, Mt. Hood National Forest.

[FR Doc. 07-4642 Filed 9-18-07; 8:45 am]

BILLING CODE 3410-11-M